DEPARTMENT OF ENERGY

Federal Energy Regulatory Commission

[Docket No. OR18-32-000]

Notice of Petition for Declaratory Order; Cactus II Pipeline LLC

Take notice that on August 9, 2018, pursuant to Rule 207(a)(2) of the Federal Energy Regulatory Commission's (Commission) Rules of Practice and Procedure, 18 CFR 385.207(a)(2) (2017), Cactus II Pipeline LLC (Cactus II Pipeline or Petitioner), filed a petition for a declaratory order to approve the specified rate structure, terms of service, and open season procedures for its proposed Cactus II Pipeline Project, which will transport crude oil from various West Texas Counties in the Permian Basin to Corpus Christi, Texas, all as more fully explained in the petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern time on September 7, 2018.

Dated: August 14, 2018..
Kimberly D. Bose,
Secretary.

[FR Doc. 2018-18003 Filed 8-20-18; 8:45 am]

BILLING CODE 6717-01-P